DEPARTMENT OF JUSTICE

Antitrust Division

Notice Pursuant to the National Cooperative Research and Production Act of 1993—Recreational Off-Highway Vehicle Registration Association

Notice is hereby given that, on December 5, 2013, pursuant to Section 6(a) of the National Cooperative Research and Production Act of 1993, 15 U.S.C. 4301 et seq. (“the Act”), the Recreational Off-Highway Vehicle Association (“ROHVA”) has filed written notifications simultaneously with the Attorney General and the Federal Trade Commission disclosing changes in its standards development activities. The notifications were filed for the purpose of extending the Act's provisions limiting the recovery of antitrust plaintiffs to actual damages under specified circumstances. Specifically, since the last notification was filed, ROHVA has initiated maintenance to and revision of a voluntary standard (ANSI/ROHVA 1-2011) addressing the design, configuration, and performance aspects of Recreational Off-Highway Vehicles (ROVs).

Also, ROHVA is including its members, Artic Cat Inc., Thief River Falls, MN; BRP, Inc., Valcourt, Quebec, CANADA; American Honda Motor Corp., Torrance, CA; Deere & Company, Moline, IL; Kawasaki Motors Corp., Irvine, CA; Polaris Industries, Inc., Medina, MN; Textron Inc., Providence, RI; Yamaha Motor Corporation, Cypress, CA, in this notice.

On July 23, 2008, ROHVA filed its original notification pursuant to Section 6(a) of the Act. The Department of Justice published a notice in the Federal Register pursuant to Section 6(b) of the Act on July 29, 2008 (73 FR 43952).

The last notification was filed with the Department on May 4, 2010. A notice was published in the Federal Register pursuant to Section 6(b) of the Act on June 1, 2010 (75 FR 30440).

Patricia A. Brink,
Director of Civil Enforcement, Antitrust Division.

[FR Doc. 2014-00799 Filed 1-16-14; 8:45 am]

BILLING CODE 4410-11-P